DEPARTMENT OF ENERGY

[Docket Nos. EA-281]

Application To Export Electric Energy; Manitoba Hydro

AGENCY: Office of Fossil Energy, DOE.

ACTION: Notice of application.

SUMMARY: Manitoba Hydro has applied for authority to export electric energy from the United States to Canada, pursuant to section 202(e) of the Federal Power Act.

DATES: Comments, protests or requests to intervene must be submitted on or before November 3, 2003.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Rosalind Carter (Program Office) 202-586-7983 or Michael Skinker (Program Attorney) 202-586-2793.

SUPPLEMENTARY INFORMATION: Exports of electricity from the United States to a foreign country are regulated and require authorization under section 202(e) of the Federal Power Act (FPA) (16 U.S.C. 824a(e)).

On September 2, 2003, Manitoba Hydro, a Canadian Crown Corporation, applied to the Office of Fossil Energy, of the Department of Energy (DOE) for authority to export electric energy from the Unites States to Canada. Manitoba Hydro engages in the generation, transmission and distribution of electricity primarily in the Province of Manitoba, Canada. Manitoba Hydro does not own, control, or operate any generation, transmission or other facilities in the United States and does not sell power at wholesale within the United States. Manitoba Hydro is not a public utility subject to the jurisdiction of the Federal Energy Regulatory Commission (FERC).

The type of export transactions that Manitoba Hydro proposes in FE Docket No. EA-281 include: (1) Purchasing electric energy in Canada and wheeling the energy through facilities located in the U.S. and exporting the energy back to Canada to itself or to third parties in Canada and/or (2) purchasing electric energy in the United States, exporting that energy through facilities within the U.S. and then exporting the energy to itself or third parties in Canada. Manitoba Hydro will arrange for the delivery of exports to Canada over the international transmission facilities owned by Basin Electric Power Cooperative, Bonneville Power Administration, Citizens Utilities, Eastern Maine Electric Cooperative, International Transmission Co., Joint Owners of the Highgate Project, Long Sault, Inc., Maine Electric Power Company, Maine Public Service Company, Minnesota Power, Inc., Minnkota Power Cooperative, Inc., New York Power Authority, Niagara Mohawk Power Corp., Northern States Power Company and Vermont Electric Transmission.

The construction of each of the international transmission facilities to be utilized by Manitoba Hydro has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the Manitoba Hydro application to export electric energy to Canada should be clearly marked with Docket EA-281. Additional copies are to be filed directly with K. Jennifer Moroz, Barrister & Solicitor, Legal Department, Manitoba Hydro, 820 Taylor Avenue, Winnipeg, Manitoba Canada R3M 3T1 and David Martin Connelly, Bruder, Gentile & Marcoux, L.L.P., 1701 Pennsylvania Avenue, NW., Suite 900, Washington, DC 20006-5805.

A final decision will be made on this application after the environmental impact has been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Electricity Regulation,” and then “Pending Proceedings” from the options menus.

Issued in Washington, DC, on September 24, 2003.
Anthony Como,
Deputy Director, Electric Power Regulation, Office of Coal & Power Import/Export, Office of Coal & Power Systems, Office of Fossil Energy.

[FR Doc. 03-25005 Filed 10-1-03; 8:45 am]

BILLING CODE 6450-01-P